DEPARTMENT OF THE INTERIOR

Bureau of Land Management

[LLWO220000.L10200000.PH0000.00000000]

Renewal of Approved Information Collection

AGENCY: Bureau of Land Management, Interior.

ACTION: 60-Day notice and request for comments.

SUMMARY: In compliance with the Paperwork Reduction Act, the Bureau of Land Management (BLM) invites public comments on, and plans to request approval to continue, the collection of information from applicants for grazing permits and leases, and from holders of grazing permits and leases. The Office of Management and Budget (OMB) has assigned control number 1004-0041 to this information collection.

DATES: Please submit comments on the proposed information collection by March 11, 2014.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0041” regardless of the form of your comments.

FOR FURTHER INFORMATION CONTACT: Kimberly Hackett, at 202-912-7216. Persons who use a telecommunication device for the deaf may call the Federal Information Relay Service at 1-800-877-8339, to leave a message for Ms. Hackett.

SUPPLEMENTARY INFORMATION: OMB regulations at 5 CFR part 1320, which implement provisions of the Paperwork Reduction Act (44 U.S.C. 3501-3521), require that interested members of the public and affected agencies be given an opportunity to comment on information collection and recordkeeping activities (see 5 CFR 1320.8(d) and 1320.12(a)). This notice identifies an information collection that the BLM plans to submit to the OMB for approval. The Paperwork Reduction Act provides that an agency may not conduct or sponsor a collection of information unless it displays a currently valid OMB control number. Until the OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

Before including your address, phone number, email address, or other personal identifying information in your comment, you should be aware that your entire comment — including your personal identifying information—may be made publicly available at any time. While you can ask us in your comment to withhold your personal identifying information from public review, we cannot guarantee that we will be able to do so.

The following information is provided for the information collection:

Title: Authorizing Grazing Use (43 CFR subparts 4110 and 4130)

Forms:

• Form 4130-1, Grazing Schedule, Grazing Application;

• Form 4130-1a, Grazing Preference Transfer Application and Preference Application (Base Property Preference Attachment and Assignment);

• Form 4130-1b, Grazing Application Supplemental Information;

• Form 4130-3a, Automated Grazing Application;

• Form 4130-4, Application for Exchange-of-Use Grazing Agreement; and

• Form 4130-5, Actual Grazing Use Report.

OMB Control Number: 1004-0041.

Abstract: The Taylor Grazing Act (43 U.S.C. 315-315n) and Subchapters III and IV of the Federal Land Policy and Management Act (43 U.S.C. 1731-1753) authorize and require BLM management of domestic livestock grazing on public lands consistent with land use plans, the principles of multiple use and sustained yield, environmental values, economic considerations, and other relevant factors. Compliance with these statutory provisions necessitates collection of information on matters such as permittee and lessee qualifications for a grazing permit or lease, base property used in conjunction with public lands, and the actual use of public lands for domestic livestock grazing.

Frequency of Collection: The BLM collects the information on Forms 4130-1, 4130-1a, 4130-1b, and 4130-4 on occasion. The BLM collects the information on Forms 4130-3a and 4130-5 annually. Responses are required in order to obtain or retain a benefit.

Estimated Number and Description of Respondents: Any U.S. citizen or validly licensed business may apply for a BLM grazing permit or lease. The BLM administers nearly 18,000 permits and leases for grazing domestic livestock, mostly cattle and sheep, at least part of the year on public lands. Permits and leases generally cover a 10-year period and are renewable if the BLM determines that the terms and conditions of the expiring permit or lease are being met.

Estimated Reporting and Recordkeeping “Hour” Burden: 33,810 responses and 7,811 hours annually.

Estimated Annual Non-Hour Costs: $30,000.

Estimates of the burdens are itemized below:

A. | B. | C. | D.
Type of response | Number of responses | Time per response (minutes) | Total hours (B × C)
Grazing Schedule—Grazing Application, 43 CFR 4130.1-1, Form 4130-1 | 3,000 | 15 | 750
Grazing Preference Application and Preference Transfer Application (Base Property Preference Attachment and Assignment), 43 CFR 4110.1(c), 4110.2-1(c), and 4110.2-3, Form 4130-1a and related nonform information | 900 | 35 | 525
Grazing Application Supplemental Information, 43 CFR 4110.1 and 4130.7, Form 4130-1b | 900 | 30 | 450
Automated Grazing Application, 43 CFR 4130.4, Form 4130-3a | 14,000 | 10 | 2,333
Application for Exchange-of-Use Grazing Agreement, (43 CFR 4130.6-1), Form 4130-4 | 10 | 18 | 3
Actual Grazing Use Report, 43 CFR 4130.3-2(d), Form 4130-5 | 15,000 | 15 | 3,750
Totals | 33,810 |  | 7,811

Jean Sonneman,
Information Collection Clearance Officer, Bureau of Land Management.

[FR Doc. 2014-00196 Filed 1-9-14; 8:45 am]

BILLING CODE 4310-84-P